DEPARTMENT OF LABOR

Employment and Training Administration

[TA-W-61,530]

Track Corporation, Including On-Site Leased Workers of Forge Industrial and Manpower, Inc., Spring Lake, MI; Amended Notice of Revised Determination on Reconsideration

In accordance with Section 223 of the Trade Act of 1974 (19 U.S.C. 2273), and Section 246 of the Trade Act of 1974 (26 U.S.C. 2813), as amended, the Department of Labor issued a Notice of Revised Determination on Reconsideration on August 23, 2007. The notice was published in the Federal Register on August 30, 2007 (72 FR 50128).

At the request of the State agency, the Department reviewed the Notice of Revised Determination on Reconsideration for workers of the subject firm. The workers are engaged in the production of seat adjusters for the automotive industry and public seating for stadiums and theaters. The workers are separately identifiable by product line. The TAA/ATAA petition was filed on behalf of workers engaged in the production of seat adjusters.

New information shows that leased workers of Manpower, Inc. were employed on-site at the Spring Lake, Michigan location of Track Corporation. The Department has determined that these workers were sufficiently under the control of Track Corporation to be considered leased workers.

Based on these findings, the Department is amending this certification to include leased workers of Manpower, Inc. working on-site at the Spring Lake, Michigan location of the subject firm.

The intent of the Department's certification is to include all workers employed at Track Corporation, Spring Lake, Michigan who were adversely-impacted by increased imports of seat adjusters.

The amended notice applicable to TA-W-61,530 is hereby issued as follows:

All workers of Track Corporation, including on-site leased workers of Forge Industrial and Manpower, Inc., Spring Lake, Michigan, engaged in the production of seat adjusters, who became totally or partially separated from employment on or after May 16, 2006, through August 23, 2009, are eligible to apply for adjustment assistance under Section 223 of the Trade Act of 1974, and are also eligible to apply for alternative trade adjustment assistance under Section 246 of the Trade Act of 1974.

Signed at Washington, DC this 16th day of October 2007.
Elliott S. Kushner,
Certifying Officer, Division of Trade Adjustment Assistance.

[FR Doc. E7-21744 Filed 11-5-07; 8:45 am]

BILLING CODE 4510-FN-P